DEPARTMENT OF HEALTH AND HUMAN SERVICES

National Institutes of Health

National Cancer Institute; Amended Notice of Meeting

Notice is hereby given of a change in the meeting of the National Cancer Advisory Board, June 23, 2015, 6:30 p.m. to June 24, 2015, 5:00 p.m., National Institutes of Health, Building 31, 31 Center Drive, C Wing, 6th Floor, Conference Room 10, Bethesda, MD 20892 which was published in the Federal Register on May 15, 2015 (80 FR 27979).

This meeting is being amended to change the start time of the open session on June 24, 2015 from 9:00 a.m. to 8:30 a.m. The start time of the closed session will change to 4:30 p.m. and end at 6:00 p.m. The meeting is partially closed to the public.

Dated: June 4, 2015
Melanie J. Gray,
Program Analyst, Office of Federal Advisory Committee Policy.

[FR Doc. 2015-14044 Filed 6-8-15; 8:45 am]

BILLING CODE 4140-01-P